DEPARTMENT OF THE INTERIOR

Fish and Wildlife Service

[Docket No. FWS-HQ-MB-2022-0056; FF09M21200-223-FXMB1231099BPP0; OMB Control Number 1018-0022]

Agency Information Collection Activities; Federal Fish and Wildlife Permit Applications and Reports—Migratory Birds

AGENCY: Fish and Wildlife Service, Interior.

ACTION: Notice of information collection; revision of proposed changes; comment period reopening.

SUMMARY: In accordance with the Paperwork Reduction Act, on May 17, 2022, we, the U.S. Fish and Wildlife Service, published a notice announcing that we are proposing to renew an existing information collection with revisions. The notice opened a public comment period, which closed on July 18, 2022. Because we have additional proposed changes, we are now republishing the notice and reopening the comment period.

DATES: Interested persons are invited to submit comments on or before December 27, 2022.

ADDRESSES: Send your comments on the information collection request (ICR) by one of the following methods (please reference OMB Control Number “1018-0022” in the subject line of your comment):

• Internet (preferred): https://www.regulations.gov. Follow the instructions for submitting comments on Docket No. FWS-HQ-MB-2022-0056.

• Email: Info_Coll@fws.gov.

• U.S. mail: Service Information Collection Clearance Officer, U.S. Fish and Wildlife Service, Docket No. FWS-HQ-MB-2022-0056, 5275 Leesburg Pike, MS: PRB (JAO/3W), Falls Church, VA 22041-3803.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995 (PRA; 44 U.S.C. 3501 et seq.) and its implementing regulations in the Code of Federal Regulations (CFR) at 5 CFR 1320, we provide the general public and other Federal agencies with an opportunity to comment on new, proposed, revised, and continuing collections of information. This helps us assess the impact of our information collection requirements and minimize the public's reporting burden. It also helps the public understand our information collection requirements and provide the requested data in the desired format.

On May 17, 2022, we published a notice announcing that we are proposing to renew an existing information collection with revisions (87 FR 29872). The notice opened a public comment period, which closed on July 18, 2022. Because we have additional proposed changes, we are now republishing the notice in full and reopening the comment period. Our final determination will take into consideration all written comments and any additional information we receive during both comment periods.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The U.S. Fish and Wildlife Service's regional migratory bird permit offices use information that we collect on permit applications to determine the eligibility of applicants for permits requested in accordance with the criteria in various Federal wildlife conservation laws and international treaties, including:

(1) Migratory Bird Treaty Act (16 U.S.C. 703 et seq.).

(2) Lacey Act (18 U.S.C. 42; 16 U.S.C. 3371 et seq.).

(3) Bald and Golden Eagle Protection Act (16 U.S.C. 668 et seq.).

Service regulations implementing these statutes and treaties are in chapter I, subchapter B of title 50 of the Code of Federal Regulations (CFR), parts 10, 13, 20, and 21. These regulations stipulate general and specific requirements that, when met, allow us to issue permits to authorize activities that are otherwise prohibited.

Generally, with the exception of forms 3-186 and 3-186a, all Service migratory bird permit application and report forms are in the 3-200 and 3-202 series of forms, each tailored to a specific activity based on the requirements for specific types of permits. We collect standard identifier information for all permits. The information that we collect on applications and reports is the minimum necessary for us to determine if the applicant meets/continues to meet issuance requirements for the particular activity.

In accordance with Federal regulations at 50 CFR 13.12, we collect standard identifier information for all permit applications, such as:

• Applicant's full name and address (street address, city, county, State, and zip code; and mailing address if different from street address); home and work telephone numbers; and a fax number and email address (if available), and

—If the applicant resides or is located outside the United States, an address in the United States, and, if the applicant is applying for permission to conduct commercial activities, the name and address of his or her agent that is located in the United States; and

—If the applicant is an individual, the date of birth, occupation, and any business, agency, organizational, or institutional affiliation associated with the wildlife or plants to be covered by the license or permit; or

—If the applicant is a business, corporation, public agency, or institution, the tax identification number; description of the business type, corporation, agency, or institution; and the name and title of the person responsible for the permit (such as president, principal officer, or director);

• Location where the requested permitted activity is to occur or be conducted;

• Certification containing the following language:

—“I hereby certify that I have read and am familiar with the regulations contained in title 50, part 13, of the Code of Federal Regulations and the other applicable parts in subchapter B of chapter I of title 50, Code of Federal Regulations, and I further certify that the information submitted in this application for a permit is complete and accurate to the best of my knowledge and belief. I understand that any false statement herein may subject me to suspension or revocation of this permit and to the criminal penalties of 18 U.S.C. 1001.”

• Requested effective date of permit (except where issuance date is fixed by the part under which the permit is issued);

• Current date;

• Signature of the applicant;

• Such other information as the Director determines relevant to the processing of the application, including but not limited to

—Information on the environmental effects of the activity consistent with 40 CFR 1506.5 and Departmental procedures at 516 DM 6, appendix 1.3A; and

—Additional information required on applications for other types of permits may be found by referring to table 1 to paragraph (b) in 50 CFR 13.12.

Standardization of general information common to the application forms makes the filing of applications easier for the public, as well as expediting our review of applications. The information that we collect on applications and reports is the minimum necessary for us to determine whether the applicant meets/continues to meet issuance requirements for the particular activity.

Proposed Revisions to This Information Collection

With this submission, we are proposing the following revisions to the existing information collection:

Revisions to Section E in Permit Applications

In 2020, the Service implemented a new automated permit application called ePermits. The ePermits system allowed the Service to move towards a streamlined permitting process to reduce the information collection burden on the public, particularly small businesses. Public burden reduction is a priority for the Service; the Assistant Secretary for Fish and Wildlife and Parks; and senior leadership at the Department of the Interior. The ePermits system will fully automate the permitting process to improve the customer experience and to reduce time burden on respondents. This system enhances the user experience by allowing users to enter data from any device that has internet access, including personal computers, tablets, and smartphones. It also links the permit applicant to the Pay.gov system for payment of the associated permit application fee.

A user of the ePermits system registers for and uses an account which will then automatically populate the forms they complete with the required identification information. The system eliminates the need for the applicant to enter their information multiple times when they apply for multiple permits, thereby reducing burden on the applicant. The account registration process will also provide private sector users an opportunity to self-identify as a small business, which will enable the Service to more accurately report burden associated with information collection requirements placed on them.

At this time, the ePermits system is unable to fully automate Section E of the permit application process. Section E of each permit application is customized based on the permit type. We anticipate being able to begin digitizing Section E on our forms in calendar year 2022. As a result of challenges with the development of forms within the ePermits system, we do not have a timeline for full automation of Section E. We anticipate beginning the digitization of the report forms contained in this collection by 2023 and believe the digitization of Section E on application forms should be finalized by fiscal year 2024, as funding and resources become available.

We propose the following changes to certain permit application forms contained in this collection via the ePermits system, to include the following:

• Applicants will be able to select the type of business they manage (for-profit, small business, farm, not-for-profit, or government entity).

• Requesting businesses using ePermits will be asked to provide email addresses for both the principal officer and the business.

• The signature block will be replaced by with electronic submission of the online applications.

The updates to the ePermits system will also:

• Allow users to apply on behalf of another individual or business as a new way to identify if a consultant is applying for a client.

• Ask for the name of the authorized individual to include on the permit.

• Allow a business to nickname their applications.

• Ask the applicant to identify the location where the majority of the authorized activities will occur.

• Ask the applicant to identify the physical address of the preparer of application.

• Ask the applicants to identify if they are tax exempt.

• Prompt applicants to provide their preferred contact method.

• Prompt the applicant to describe changes associated with amendments or renewals (with changes) of their permit.

• Prompt applicants to opt in or out of releasing their information for all applications except migratory bird rehabilitation permits (businesses are automatically opted in).

• Prompt the applicant to provide a parent permit number, which allows the ePermits System to direct the user to the correct version of their permit for renewals or amendments to a permit.

In addition to the ePermits changes listed above, we propose the below listed changes to the questions within Section E of four application forms in this collection:

3-200-10b: Migratory Bird Rehabilitation

• Question 1:

—Update the species group list to a previous version of this list that better aligns with the terminology the Service uses to group species: eagles, raptors, songbirds, seabirds, waterbirds, waterfowl.

—Add levels of care to the species request (restricted, limited, and unlimited).

• General:

—Clarify that the permit will authorize species groups (eagles, raptors, songbirds, seabirds, waterbirds, waterfowl) and level of care (restricted, limited, and unlimited), and that the questions must be answered sufficiently to make determinations for each of the species/care levels requested.

—Add clarifying language for subpermittees, in particular, falconers. as subpermittees.

3-200-7: Migratory Bird and Eagle Scientific Collecting

• Add a question regarding whether institutional animal care and use committee (IACUC) approval is required. If Yes, provide your approval or copy of your application.

3-200-8: Migratory Bird Taxidermy

• Add a yes/no check box to indicate whether there are any subpermittees.

• Rephrase question 4 to clarify subpermittee names.

3-200-13: Migratory Bird Depredation

• Question 8:

—Modify the questions to clarify that this applies if you are applying on behalf of an airport. Request the dates of the Hazard Management Plan (WHMP) or Bird Air Strike Hazard (BASH) plan; request the FAA and USDA-WS review dates of the plan; and state that the applicant may be required to submit a copy of the plan(s).

• General: Add a new question as follows: Is the applicant operating under an existing NEPA document? If yes, include the title of document, status (draft/final), and date(s) published. The applicant may be required to submit a copy of the document.

In addition to the form-specific updates listed above, we propose to update Section E on all of the application forms to indicate which questions are required for renewal.

We also propose the following changes to the below listed report forms in this collection:

3-202-9: Migratory Bird Depredation

• In the reporting table header, the following changes are being proposed:

—Remove the words “(required)” from the header “County.”

—Update “Month Taken” to “Date”.

—Update “Birds Relocated” to “Birds Captured”.

—Add directions for reporting birds captured to be consistent with the 2004 Policy Memo.

3-202-17: USFWS Bird and Bat Injury and Mortality Reporting System (Excel Sheet) and the Injury and Mortality Reporting System

The Service is revising Form 3-202-17 as a result of a close review and enhancement of the Injury and Mortality Reporting (IMR) system, which bases the information it collects on the fields and information collected in Form 3-202-17. The changes are expected to result in an overall burden reduction to the public and an overall improved user experience as a result of the net reduction in fields and the streamlining and update of both the Excel form and IMR user interface. Creation of a project record prior to logging injury/mortality records will now be optional, which should reduce the burden for some users.

We propose the following changes to the form and system, including fields being removed, overall system improvements, and field additions:

• Removal of 26 fields from the form:

—Primary Contact Name (required).

—Primary Contact Title (required).

—Event Observed? (required).

—Other Species or Species Type (required if other two species options weren't populated).

—FWS Project Consultation Number.

—How Aged.

—Other Aging Method.

—Nearby Features.

—Other How Identified.

—Other Location Accuracy.

—Probable Cause.

—Probable Cause Details.

—Suspected Cause.

—Suspected Cause Details.

—Other Disposition.

—Wing Chord.

—Hallux.

—Culmen.

—Tarsus.

—Footpad.

—Weather Conditions.

—Temperature.

—Wind Speed.

—Barometric Pressure.

—Humidity.

—Wind Direction.

• System modifications to streamlining actions and added efficiency for IMR system users:

—More intuitive user interface—The new IMR interface will be more user-friendly and instructive.

—Improved bulk record uploading capabilities—The IMR bulk upload graphic user interface will be simplified to reflect the changes taking place on the IMR form. The bulk upload process itself will also be made more streamlined, efficient, and user-friendly.

—Improvements to ability of users to give others access to records—Users will be able share records with other IMR users, as they currently do. However, a new “view-only” role will be added so that users can allow individuals to see their records, but not modify them.

—Consolidation of ID fields—USGS Band Number, FWS Toe Tag ID, Local Specimen Number, and Has Telemetry Tag? fields will be consolidated into one field that allows users to “Add an ID Type”, which will allow users to associate multiple ID types and information about those ID types (e.g., the ID number) with a single record.

—Ability to take certain actions on multiple records (e.g., bulk associate records with a particular project or permit). This new feature will enable this functionality and make managing records and information much easier and more efficient for users.

—Ability to bulk upload documents—Currently, IMR users cannot bulk upload documents. This feature will be a time saver for users that have a large number of documents they would like to associate with a project or record.

• Adding 14 fields to the form:

—Project Location (conditionally required)—This field will be added to the Project record form and only required if a user chooses to create a Project record with which to associate their injury/mortality records.

—Record Type (required)—Users will indicate whether the record is associated with an Injury, Mortality, Nest Removal, or Nest Relocation. The answer to this question will refine the subsequent form questions so the user answers only the questions relevant to the selection made.

—Reporting an Eagle Record? (required)—If the answer is “Yes”, the user workflow is simplified to be eagle-specific.

—Number of Nests (required)—This field will be revealed only if Nest Removal or Nest Relocation is chosen for “Record Type” field.

—Species Known? (required)—If the answer is “No”, the user workflow is simplified to only allow species categories rather than individual species names.

—Company—If new contacts are added, users will have the option of specifying the company with which they are associated.

—Species Notes.

—Date Relocated or Removed—This field is revealed only if “Nest Removal” or “Nest Relocation” is chosen for the “Record Type” field.

—Possible Cause.

—Possible Cause Details.

—In Search Plot?

—Hazard Azimuth.

—Hazard Distance.

—Nearest Turbine ID.

Falconry Program

We propose to modify Form 3-186A to update the field “USFWS Band Number” to say “USFWS/State/Tribe/Territory band number” and ”USFWS Permit Number” to say “USFWS/State/Tribe/Territory permit number.”

Migratory Bird Permit Program Service Manual Chapters

With this submission, we will seek OMB approval of the Migratory Bird Permit Program Handbook (Handbook) and associated Service Manual chapters at 724 FW 1 (“Migratory Bird Permits”) and 724 FW 2 (“Migratory Bird Management”), all of which contain references to information collections. The Handbook provides detailed procedures and other operational information to implement the Service Manual chapters in part 724 and more generally in part 720.

New and existing information collections contained in the Handbook requiring OMB approval include the following:

• Renewal procedures associated with the reauthorization of an existing permit (with or without changes to the conditions);

• Reinstatement procedures associated with the reauthorization of an existing permit (with or without changes to the conditions);

• Discontinuance procedures at the permittee's request to discontinue a valid permit;

• Solicitation of appropriate documentation from entities authorized to act on behalf of State, local, Tribal, and Federal government agencies to verify their exempt status for fee-exemption purposes;

• Fee waiver request process as outlined in 50 CFR 13.11(d)(3)(iii);

• Requests for reconsideration of a denial, partial denial, suspension, or revocation of a permit (requiring submission of a written request with the required information in 50 CFR 13.29(b) within 45 days after the permit decision); and

• Appeals of reconsideration request decisions (requiring the permittee submit a written request to the Regional Director (see 50 CFR 13.29(e)) within 45 days of the reconsideration decision).

Consolidation of Information Collections Contained in OMB Control No. 1018-0175, “Federal Fish and Wildlife Permit Applications and Reports—Special Double-Crested Cormorants; 50 CFR 21” Into OMB Control No. 1018-0022

With this submission, we will request OMB approval to consolidate the following information collections currently approved under OMB Control No. 1018-0175 (expires 1/31/2024, viewable at https://www.reginfo.gov/public/do/PRAViewICR?ref_nbr=202010-1018-003) into information collection 1018-0022:

• FWS Form 3-200-90, Special Double-Crested Cormorant Permit Application (and amendments, as appropriate)—This permit is available only to State or Tribal fish and wildlife agencies responsible for migratory bird management on lands and in waters managed by those agencies within their jurisdictions. Under this permit, the Service authorizes State and Tribal fish and wildlife agencies to conduct lethal take to reduce conflicts involving depredation at State- and Tribal-owned or operated aquaculture facilities (including hatcheries); impacts to health and human safety; impacts to threatened and endangered species (as listed under the ESA and listed species identified in State- or Tribal-specific legislation as threatened or endangered) or those listed as species of greatest conservation need in State wildlife action plans; damage to State- or Tribal-owned property and assets; and depredations of wild and publicly stocked fish managed by State fish and wildlife agencies or federally recognized Tribes and accessible to the public or all Tribal members. Take activities to prevent depredation on aquatic species of greatest conservation need may occur only in natural or public waters.

Any State or Tribal fish and wildlife agency wishing to obtain a permit must submit to the appropriate Regional Director Form 3-200-90, containing the general information and certification required by 50 CFR 13.12(a). These annual permits, managed by calendar year, allow for alignment with permit processing cycles and the need to evaluate allocation at the beginning of a calendar year. Section E of each application collects information specific to the activity the applicant wishes to conduct, as well as information concerning:

(1) A brief description of the State's or Tribe's double-crested cormorant conflicts, including physical location(s) and type of conflict;

(2) A detailed description of the nonlethal methods (i.e., active hazing, passive hazing, habitat management, and changes in management practices) that the applicant has and/or will implement, and how activities will address one or more of the issues;

(3) The requested annual take of double-crested cormorants by life-stage, including eggs and nests;

(4) A description of long-term plans to eliminate or significantly reduce continued need to take double-crested cormorants;

(5) A statement indicating that the State or Tribe will inform and brief all employees and subpermittees of the requirements of these regulations and permit conditions;

(6) A list of all subpermittees who may conduct activities under the special double-crested cormorant permit, including their names, addresses, and telephone numbers; and

(7) The name and telephone number of the individual in your agency who will oversee the double-crested cormorant management activities authorized under the permit.

• FWS Form 3-202-56, Annual Report—Special Double-Crested Cormorant—In conjunction with issuance of the special double-crested cormorant permit, the Service requires that the permittee submit Form 3-202-56 detailing activities, including the date, numbers, and locations and life stages of birds, eggs, and nests taken and nonlethal techniques utilized, by January 31 for activities conducted during the preceding calendar year. We collect the following information via Form 3-202-56 to ensure that the applicant remains in compliance with the terms of their permit:

(1) Permittee contact information, permit number, permit calendar year, and permit report due date;

(2) Description of non-lethal techniques utilized;

(3) Month and location of activity;

(4) Purpose;

(5) Numbers of birds killed, nests oiled, and/or nests destroyed;

(6) Final Disposition (what they did with the birds, eggs, carcasses [e.g., buried; incinerated; euthanized and donated]); and

(7) Take of non-target bird species, including numbers of birds.

• Recordkeeping—Any State or Tribal agency, when exercising the privileges of this permit, must keep records of all activities, including those of subpermittees, carried out under the authority of the special permit.

• Landowner Notifications—If a State or Tribe must enter private property to access State and Tribal lands or waters where take is approved in their permit, the State or Tribe must obtain authorization from the private property owner.

The public may request copies of any form or document contained in this information collection by sending a request to the Service Information Collection Clearance Officer in ADDRESSES, above.

Title of Collection: Federal Fish and Wildlife Permit Applications and Reports—Migratory Birds; 50 CFR 10, 13, 20, and 21.

OMB Control Number: 1018-0022.

Form Numbers: FWS Forms 3-186, 3-186A, 3-200-6 through 3-200-9, 3-200-10a through 3-200-10c, 3-200-10e, 3-200-10f, 3-200-12 through 3-200-13, 3-200-67, 3-200-79, 3-200-81, 3-202-1 through 3-202-10, 3-202-12, 3-202-17, 3-200-90, and 3-202-56.

Type of Review: Revision of an existing information collection.

Respondents/Affected Public: Individuals; private sector (including zoological parks, museums, universities, scientists, taxidermists, businesses, and utilities); and State, local, Tribal, and Federal governments.

Respondent's Obligation: Required to obtain or retain a benefit.

Frequency of Collection: On occasion for applications; annually or on occasion for reports.

Total Estimated Annual Nonhour Burden Cost: $491,050 (primarily associated with application processing fees in OMB Control No. 1018-0022).

OMB control No. | Average number of annual respondents | Average number of annual responses | Average completion time per response | Estimated annual burden hours
1018-0022 | 27,980 | 53,510 | Varies from 15 minutes to 260 hours | 394,967
1018-0175 | 711 | 711 | Varies from 1 minute to 17 hours | 4,598
Totals | 28,691 | 54,221 |  | 399,565

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2022-23491 Filed 10-27-22; 8:45 am]

BILLING CODE 4333-15-P